DEPARTMENT OF ENERGY

Federal Energy Regulatory Commission

[Docket No. CP04-365-000]

Dominion Transmission, Inc.; Notice of Intent To Prepare an Environmental Assessment for the Proposed Northeast Storage Project and Request for Comments on Envrionmental Issues

August 25, 2004.

The staff of the Federal Energy Regulatory Commission (FERC or Commission) will prepare an environmental assessment (EA) that will discuss the environmental impacts of the Northeast Storage Project involving construction and operation of facilities by Dominion Transmission, Inc. (Dominion), in Cattaraugus County, New York, Clinton, McKean, and Potter Counties, Pennsylvania, and Lewis County, West Virginia. These facilities would consist of about 21.1 miles of 20-inch-diameter pipeline, 10 segments of 8-to 16-inch diameter pipeline totaling about 2.5 miles, two new compressor stations totaling 8,290 horsepower (hp), two meter stations, replacement of a meter, drilling four new injection/withdrawal wells, conversion of a production well to an observation well, and abandonment in place of two segments of 8-inch-diameter pipeline totaling about 1.8 miles. This EA will be used by the Commission in its decisionmaking process to determine whether the project is in the public convenience and necessity.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with State law.

Summary of the Proposed Project

Dominion wants to provide 9.4 billion cubic feet (Bcf) of firm natural gas storage service and 163,017 dekatherms per day (Dt/d) of winter-season firm transportation service. Dominion seeks authority to construct and operate:

• Four new gas storage wells at the existing Quinlan Well Field and Gas Storage Pool, and the conversion of a production well to an observation well in Cattaraugus County, New York;

• 21.1-mile-long, 20-inch-diameter TL-527 Pipeline in McKean and Potter Counties, Pennsylvania, and Cattaraugus County, New York;

• 0.9-mile-long, 8-inch-diameter LN-2471-S Pipeline in Potter County, Pennsylvania;

• 0.1-mile-long, 8-inch-diameter LN-15 CHG-1 Pipeline in Potter County, Pennsylvania;

• 0.7-mile-long, 16-inch-diameter, QL-1 Pipeline in Cattaraugus County, New York;

• Five 8-inch-diameter well pipelines (QL-3, QL-4, QL-5, QL-6, and QL-7) totaling 0.11 mile in Cattaraugus County, New York;

• 0.5-mile-long and 0.1-mile-long, 16-inch-diameter pipelines (TL-533 and TL-534, respectively) in Lewis County, West Virginia;

• Sharon Measuring and Regulating Facility in Potter County, Pennsylvania;

• Walcott Measuring and Regulating Facility in Potter County, Pennsylvania;

• Leidy meter replacement in Clinton, County, Pennsylvania;

• 4,740 hp Quinlan Compressor Station in Cattaraugus County, New York;

• 3,550 hp Wolf Run Compressor Station in Lewis County, West Virginia.

In addition, Dominion seeks to abandon in place:

• 1.76 miles of the 8-inch-diameter LN-15 Pipeline in Potter County, Pennsylvania; and

• .01 mile of the 8-inch-diameter LN-250S Pipeline in Potter County, Pennsylvania.

The general location of the project facilities is shown in appendix 1.¹

¹ The appendixes referenced in this notice are not being printed in the Federal Register. Copies of all appendices, other than appendix 1 (maps), are available on the Commission's Web site at the “eLibrary” link or from the Commission's Public Reference Room, 888 First Street, NE., Washington, DC 20426, or call (202) 502-8371. For instructions on connecting to eLibrary refer to the last page of this notice. Copies of the appendices were sent to all those receiving this notice in the mail.

Land Requirements for Construction

Construction of the proposed facilities would require about 255 acres of land. Following construction, about 140.1 acres would be maintained as new permanent right-of-way and aboveground facility sites. The remaining 114.9 acres of land would be restored and allowed to revert to its former use.

The EA Process

The National Environmental Policy Act (NEPA) requires the Commission to take into account the environmental impacts that could result from an action whenever it considers the issuance of a Certificate of Public Convenience and Necessity. NEPA also requires us to discover and address concerns the public may have about proposals. This process is referred to as “scoping.” The main goal of the scoping process is to focus the analysis in the EA on the important environmental issues. By this Notice of Intent, the Commission staff requests public comments on the scope of the issues to address in the EA. All comments received are considered during the preparation of the EA. State and local government representatives are encouraged to notify their constituents of this proposed action and encourage them to comment on their areas of concern.

In the EA we ² will discuss impacts that could occur as a result of the construction and operation of the proposed project under these general headings:

² “We”, “us”, and “our” refer to the environmental staff of the Office of Energy Projects (OEP).

• Geology and soils,

• Land use,

• Water resources, fisheries, and wetlands,

• Cultural resources,

• Vegetation and wildlife,

• Endangered and threatened species,

• Public safety.

We will also evaluate potential alternatives to the proposed project or portions of the project, and make recommendations, if appropriate, on how to lessen or avoid impacts on the various resource areas.

Our independent analysis of the issues will be in the EA. Depending on the comments received during the scoping process, the EA might be published and mailed to Federal, State, and local agencies, public interest groups, interested individuals, affected landowners, newspapers, libraries, and the Commission's official service list for this proceeding. A comment period will be allotted for review if the EA is published. We will consider all comments on the EA before we make our recommendations to the Commission.

To ensure your comments are considered, please carefully follow the instructions below.

Public Participation

You can make a difference by providing us with your specific comments or concerns about the project. By becoming a commentor, your concerns will be addressed in the EA and considered by the Commission. You should focus on the potential environmental effects of the proposal, alternatives to the proposal (including alternative routes), and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 3.

• Reference Docket No. CP04-365-000.

• Mail your comments so that they will be received in Washington, DC on or before September 27, 2004.

The Commission strongly encourages electronic filing of any comments or interventions or protests to this proceeding. See 18 CFR 385.2001(a)(1)(iii) and the instructions on the Commission's Web site at http://www.ferc.gov under the “Documents & Filing, e-Filing” link and the link to the User's Guide. Before you can file comments you will need to create a free account which can be created on-line.

We might mail the EA for comment. If you are interested in receiving it, please return the Information Request (appendix 4). If you do not return the Information Request, you will be taken off the mailing list.

Becoming an Intervenor

In addition to involvement in the EA scoping process, you may want to become an official party to the proceeding known as an “intervenor. Intervenors play a more formal role in the process. Among other things, intervenors have the right to receive copies of case-related Commission documents and filings by other intervenors. Likewise, each intervenor must send one electronic copy (using the Commission's eFiling system) or 14 paper copies of its filings to the Secretary of the Commission and must send a copy of its filings to all other parties on the Commission's service list for this proceeding. If you want to become an intervenor you must file a motion to intervene according to Rule 214 of the Commission's Rules of Practice and Procedure (18 CFR 385.214) (see appendix 2).³ Only intervenors have the right to seek rehearing of the Commission's decision.

³ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

An effort is being made to send this notice to all individuals, organizations, and government entities interested in and/or potentially affected by the proposed project. This includes all landowners who are potential right-of-way grantors, whose property may be used temporarily for project purposes, or who own homes within distances defined in the Commission's regulations of certain aboveground facilities. By this notice we are also asking governmental agencies, especially those in appendix 3, to express their interest in becoming cooperating agencies for the preparation of the EA.

Additional Information

Additional information about the project is available from the Commission's Office of External Affairs, at 1-866-208-FERC or on the FERC Internet Web site http://www.ferc.gov using the eLibrary link. Click on the eLibrary link, click on “General Search” and enter the docket number excluding the last three digits in the Docket Number field. Be sure you have selected an appropriate date range. For assistance with eLibrary, the eLibrary helpline can be reached at 1-866-208-3676, TTY (202) 502-8659, or at FERCOnlineSupport@ferc.gov. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, public meetings or site visits will be posted on the Commission's calendar located at http://www.ferc.gov/EventCalendar/EventsList.aspx along with other related information.

Magalie R. Salas,
Secretary.

[FR Doc. E4-2000 Filed 8-31-04; 8:45 am]

BILLING CODE 6717-01-P